DEPARTMENT OF DEFENSE

Department of the Army, Corps of Engineers

Availability of Draft Environmental Impact Statement for the Dallas Floodway Project, in the City of Dallas, Dallas County, TX

AGENCY: Department of the Army, U.S. Army Corps of Engineers, DoD.

ACTION: Notice of availability.

SUMMARY: Pursuant to the National Environmental Policy Act (NEPA), the U.S. Army Corps of Engineers (USACE), Fort Worth District has prepared a Draft Environmental Impact Statement (DEIS) that analyzes the potential effects of implementing each of three alternative scenarios for the application of flood risk management elements, ecosystem restoration and recreation enhancement features, interior drainage plan improvements, and other proposed projects in and around the Dallas Floodway, in the City of Dallas, Dallas County, TX. The DEIS documents the existing condition of environmental resources in areas considered for development, and potential impacts on those resources as a result of implementing alternatives. The alternatives considered in detail are: (1) No-Action Alternative or “Future Without Project Condition;” (2) Proposed Action with the Trinity Parkway; and (3) Proposed Action without the Trinity Parkway.

DATES: All written comments must be postmarked on or before June 2, 2014. The Corps of Engineers will hold a public meeting for the DEIS on Thursday, May 8, 2014, from 5:30 to 9:30 p.m., at the Dallas City Hall, L1FN Auditorium, 1500 Marilla, Dallas, TX 75201. The public can enter the Dallas City Hall Garage entrance off of Field and Young Street (parking is free). The building should be entered through the green doors.

ADDRESSES: Comments may be submitted in writing to: Marcia Hackett, U.S. Army Corps of Engineers, Fort Worth District, P.O. Box 17300, Fort Worth, TX 76102-0300, or via email to marcia.r.hackett@usace.army.mil. Oral and written comments may also be submitted at the public meeting described in the DATES section.

FOR FURTHER INFORMATION CONTACT: Marcia Hackett at (817) 886-1373 or via email at marcia.r.hackett@usace.army.mil.

SUPPLEMENTARY INFORMATION: The USACE, Fort Worth District has prepared a DEIS in accordance with the National Environmental Policy Act. The DEIS has been developed as a cooperative effort by the USACE Fort Worth District, the City of Dallas, TX (non-federal sponsor), and the Federal Highway Administration (cooperating agency). The DEIS describes the anticipated environmental and socioeconomic impacts of the proposed Dallas Floodway Project located in Dallas, TX. The City of Dallas proposes to implement Flood Risk Management elements, Balanced Vision Plan (BVP) Study Ecosystem and Recreation features, and Interior Drainage Plan (IDP) improvements within the Trinity River Corridor. The Dallas Floodway Project is located along the Trinity River upstream from the abandoned Atchison, Topeka and Santa Fe bridge to the confluence of the West and Elm Forks, then upstream along the West Fork for approximately 2.2 miles, and upstream about 4 miles along the Elm Fork. Section 5141 of the Water Resources Development Act of 2007 (Pub. L. 110-114; 121 Stat. 1041) provides authorization for implementation of the City of Dallas Balanced Vision Plan Study and Interior Drainage Plan improvements following the preparation of a required National Environmental Policy Act (NEPA) documentation. This action is in accordance with Title 33 Code of Federal Regulations Section 325.2(a)(4), which discusses NEPA procedures and documentation. The purpose of the Proposed Action is to reduce flood risk through flood risk management, enhance ecosystems, and provide greater recreation opportunities within the Trinity River Corridor in Dallas, TX. Flooding events on the Trinity River have historically caused loss of lives and damage to property and structures. Urbanization and past channelization and clearing of the Dallas Floodway have significantly degraded the natural terrestrial and aquatic habitat of the Dallas Floodway. Furthermore, the City of Dallas lacks sufficient recreational opportunities for citizens and visitors. Implementation of the Proposed Action is needed to comply with Section 5141 of the Water Resources Development Act of 2007. USACE invites full public participation to promote open communication and better decision-making. All persons and organizations that have an interest in the Dallas Floodway Project are urged to participate in the NEPA process. A public meeting will be held as described in the DATES section. Copies of the DEIS may be reviewed at the following locations: (1) U.S. Army Corps of Engineers, Fort Worth District Web site: http://www.swf.usace.army.mil/Missions/WaterSustainment/DallasFloodway.aspx; (2) Dallas Public Library, 1515 Young Street, Dallas, TX 75201; (3) Oak Lawn Branch Library, 4100 Cedar Spring Road, Dallas, TX 75219; (4) North Oak Cliff Library, 302 W. 10th Street, Dallas, TX 75208; and (5) at the public meeting as described in the DATES section. Copies may also be requested in writing at (see ADDRESSES).

In addition to the Federal project described above, the City of Dallas has submitted an application for approval of the entire project (BVP and IDP) as a locally sponsored action under the provisions of 33 United States Code Section 408 (Section 408), Section 404 of the Clean Water Act (CWA), and Section 10 of the Rivers and Harbors Act (RHA). Approval is required due to: (1) The proposed location of the Project and activities within the Dallas Floodway; (2) the discharge of dredge and fill material into waters of the United States; and (3) activities in navigable waters of the United States. Approximately 323 acres of waters of the U.S., including roughly 157 acres of open water and 166 acres of wetlands, would be impacted by Alternative 2. Of this total acreage, approximately 134 acres are navigable open waters of the Trinity River. Permit Number for this action is SWF-2014-00151.

The proposed action will be reviewed in accordance with 33 CFR 320-332, the Regulatory Program of the U.S. Army Corps of Engineers, and other pertinent laws, regulations, and executive orders. Our evaluation will also follow the guidelines published by the U.S. Environmental Protection Agency pursuant to Section 404(b)(1) of the CWA. The decision whether to approve the project will be based on an evaluation of the probable impact, including cumulative impact, of the proposal on the public interest. That decision will reflect the national concerns for both protection and utilization of important resources. The benefits that reasonably may be expected to accrue from the proposal must be balanced against its reasonably foreseeable detriments. All factors that may be relevant to the proposal will be considered, including its cumulative effects. Among the factors addressed are conservation, economics, aesthetics, general environmental concerns, wetlands, historic properties, fish and wildlife values, flood hazards, floodplain values, land use, navigation, shore erosion and accretion, recreation, water supply and conservation, water quality, energy needs, safety, food and fiber production, mineral needs, considerations of property ownership, and, in general, the needs and welfare of the people.

The USACE is soliciting comments from the public; federal, state, and local agencies and officials; Native American Tribes, and other interested parties in order to consider and evaluate the impacts of this proposal associated with a potential permit decision. Any comments received will be considered by the USACE in determining whether to issue, issue with conditions, or deny the permit. To make this decision, comments are used to assess impacts on endangered species, historic properties, water quality, general environmental effects, and the other public interest factors listed above.

This project would result in a direct impact of greater than three acres of waters of the state or 1,500 linear feet of streams (or a combination of the two is above the threshold), and as such would not fulfill Tier I criteria for the project. Therefore, Texas Commission on Environmental Quality (TCEQ) certification is required. Concurrent with USACE processing of this Department of the Army application, the TCEQ is reviewing this application under Section 401 of the Clean Water Act, and Title 30, Texas Administrative Code Section 279.1-13 to determine if the work would comply with State water quality standards. By virtue of an agreement between the USACE and the TCEQ, this public notice is also issued for the purpose of advising all known interested persons that there is pending before the TCEQ a decision on water quality certification under such act.

Any comments concerning the TCEQ application may be submitted to the Texas Commission on Environmental Quality, 401 Coordinator, MSC-150, P.O. Box 13087, Austin, TX 78711-3087. The public comment period extends 45 days from the date of publication of this notice. A copy of the public notice with a description of the work is made available for review in the TCEQ's Austin Office. The TCEQ may conduct a public meeting to consider all comments concerning water quality if requested in writing. A request for a public meeting must contain the following information: the name, mailing address, application number, or other recognizable reference to the application; a brief description of the interest of the requestor, or of persons represented by the requestor; and a brief description of how the application, if granted, would adversely affect such interest.

Rob Newman,
Director, Trinity River Corridor, Project Office.

[FR Doc. 2014-08795 Filed 4-17-14; 8:45 am]

BILLING CODE 3720-58-P